DEPARTMENT OF AGRICULTURE

Animal and Plant Health Inspection Service

9 CFR Parts 55 and 81

[Docket No. 00-108-5]

RIN 0579-AB35

Chronic Wasting Disease Herd Certification Program and Interstate Movement of Farmed or Captive Deer, Elk, and Moose; Petitions and Request for Comments

AGENCY: Animal and Plant Health Inspection Service, USDA.

ACTION: Notice of receipt of petitions and request for comments.

SUMMARY: We are advising the public that the Animal and Plant Health Inspection Service has received three petitions requesting that we delay implementation of, and reconsider provisions in, a recent final rule establishing a herd certification program and interstate movement restrictions for cervids to control the spread of chronic wasting disease. We are soliciting public comments on the petitions and the potential impacts of the actions they recommend.

DATES: We will consider all comments that we receive on or before December 4, 2006.

FOR FURTHER INFORMATION CONTACT: Dr. Dean E. Goeldner, Senior Staff Veterinarian, Ruminant Health Programs, VS, APHIS, 4700 River Road, Unit 43, Riverdale, MD 20737-1231; (301) 734-4916. Copies of the petitions are available at the Federal eRulemaking Portal, http://www.regulations.gov, as described under ADDRESSES below.

ADDRESSES: You may submit comments by either of the following methods:

• Federal eRulemaking Portal: Go to http://www.regulations.gov, select “Animal and Plant Health Inspection Service” from the agency drop-down menu, then click “Submit.” In the Docket ID column, select APHIS-2006-0118 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. 00-108-5, Regulatory Analysis and Development, PPD, APHIS, Station 3A-03.8, 4700 River Road, Unit 118, Riverdale, MD 20737-1238. Please state that your comment refers to Docket No. 00-108-5.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

SUPPLEMENTARY INFORMATION: In accordance with the Animal Health Protection Act (7 U.S.C. 8301 et seq.), the Secretary of Agriculture has the authority to issue orders and promulgate regulations to prevent the introduction into the United States and the dissemination within the United States of any pest or disease of livestock, and to pay claims growing out of the destruction of animals. The Animal and Plant Health Inspection Service's (APHIS') regulations in 9 CFR subchapter B govern cooperative programs to control and eradicate communicable diseases of livestock.

On July 21, 2006, we published a final rule in the Federal Register (71 FR 41682-41707, Docket No. 00-108-3) amending 9 CFR subchapter B by establishing regulations in part 55 for a Chronic Wasting Disease Herd Certification Program to help eliminate chronic wasting disease (CWD) from the farmed or captive cervid herds in the United States (the CWD rule). Under that rule, owners of deer, elk, and moose herds who choose to participate would have to follow program requirements for animal identification, testing, herd management, and movement of animals into and from herds. We also amended 9 CFR subchapter B by establishing a new part 81 containing interstate movement requirements to prevent the spread of CWD.

We recently received three petitions requesting a delay in the effective date of the CWD rule and reconsideration of several requirements of the rule. We are currently evaluating the merits of these petitions, and through this notice, we are making the petitions available for public review and requesting comments on them. On September 8, 2006, we also published a notice in the Federal Register delaying the effective date of the CWD rule until further notice (71 FR 52983, Docket No. 00-108-4).

On August 3, 2006, we received a petition from the Association of Fish and Wildlife Agencies. On August 4, 2006, we received a petition from the National Assembly of State Animal Health Officials, and on August 8, 2006, we received a petition from the United States Animal Health Association. The texts of all three petitions are available on the Federal eRulemaking Portal, as described under ADDRESSES.

The primary issues addressed by all three petitions are the Federal preemption of State laws and regulations and the requirements our CWD rule established for the interstate movement of cervids. Under the CWD rule, during its first year of implementation, cervids could move interstate if they have been in an approved CWD Herd Certification program, and thus subject to monitoring for CWD and other requirements, for at least 1 year. The CWD rule increases this length-of-time requirement in succeeding years of implementation, so the time animals must be in a herd certification program in order to move interstate gradually increases to 2 years, then 3, then 4, then 5 years. It was the intent of the CWD rule to provide a consistent, nationwide standard for the interstate movement of cervids, replacing a variety of differing State standards. Existing State laws and regulations addressing movement of cervids vary in the amount of time that the animals must have been in a certification program prior to entry, and some States do not allow the entry of any cervids. The gradual escalation of the Federal standard in the CWD rule to 5 years was intended to achieve the desired level of risk control represented by 5 years of program participation and disease-free surveillance and monitoring, but to do so in a gradual manner that would not cause widespread economic harm to producers by making it impossible for some of them to move animals interstate until 5 years after they join the CWD Herd Certification Program.

The petitioners raised two points with regard to this Federal standard for interstate movement. First, they cited it as an unexpected and unnecessary Federal preemption of existing State standards. They stated that during development of the CWD proposed rule they believed that any Federal interstate movement requirement would serve as a minimum standard, and would apply only if States did not set their own standards for length-of-time. Second, the petitioners questioned whether the Federal standard provided adequate protection, especially during the first 2 years of program implementation. The petitioners suggested that sound science and the known epidemiology of CWD require that animals be monitored for CWD for more than 1 or 2 years before they can be considered safe to move interstate.

The public is invited to comment on any of the issues raised by the petitions. To aid our evaluation of these issues, we particularly invite comments in the following areas.

• Consider the alternatives of implementing a Federal interstate movement standard versus allowing individual State standards to apply. What hardships or benefits would each alternative impose? Please provide details where possible.

• With respect to the spread of CWD, in addition to the requirements established by the APHIS CWD rule, what additional safeguards do States need to mitigate or reduce risk of disease transmission, and why are they needed?

• What practical or operational problems may be expected from the final rule and from the alternatives suggested by the petitions? How could they be alleviated?

• Are there any alternatives that could address the petitioners' concerns, other than allowing the movement requirements of individual States to take precedence over the Federal standard?

After evaluating the petitions and any public comments received in response to this document, APHIS will publish a document in the Federal Register announcing what action, if any, we will take in response to the petitions.

Authority: 7 U.S.C. 8301-8317; 7 CFR 2.22, 2.80, and 371.4.

Done in Washington, DC, this 31st day of October 2006.
Kevin Shea,
Acting Administrator, Animal and Plant Health Inspection Service.

[FR Doc. E6-18564 Filed 11-2-06; 8:45 am]

BILLING CODE 3410-34-P